COMMISSION ON CIVIL RIGHTS

Agenda and Notice of Public Meeting of the Minnesota Advisory Committee

Notice is hereby given, pursuant to the provisions of the rules and regulations of the U.S. Commission on Civil Rights, that the Minnesota Advisory Committee will convene a meeting on Thursday, April 29, 2004, from 9 a.m. to 5 p.m., at the Minneapolis Urban League, 2100 Plymouth Avenue, North, Minneapolis, Minnesota 55411. The purpose of the meeting is to hold a press conference to release the Committee's report, Minneapolis-St. Paul News Coverage of Minority Communities and to discuss civil rights issues and plan future activities.

Persons desiring additional information, or planning a presentation to the Committee, should contact Constance M. Davis, Director of the Midwestern Regional Office 312-353-8311 (TDD 312-353-8362). Hearing-impaired persons who will attend the meeting and require the services of a sign language interpreter should contact the Regional Office at least ten (10) working days before the scheduled date of the meeting.

The meeting will be conducted pursuant to the provisions of the rules and regulations of the Commission.

Dated at Washington, DC, March 30, 2004.
Ivy L. Davis,
Chief, Regional Programs Coordination Unit.

[FR Doc. 04-8597 Filed 4-14-04; 8:45 am]

BILLING CODE 6335-01-P